DEPARTMENT OF HEALTH AND HUMAN SERVICES

Administration for Children and Families

Data Exchange Standards for Improved Interoperability of Multiple Human Service Programs

AGENCY: Office of Planning, Research & Evaluation (OPRE), Administration for Children and Families (ACF), Department of Health and Human Services (HHS).

ACTION: Request for comments.

SUMMARY: A series of statutory changes ¹ in recent years require ACF to issue a regulation to establish standards for data exchange for the Social Security Act Title IV programs for child welfare and foster care (title IV-B and IV-E), child support (title IV-D), and Temporary Assistance for Needy Families (TANF, title IV-A). ACF is seeking public comment on the most effective approaches and technological tools to meet the statutory requirements, support program objectives, and expand the ability of these programs to use, share, and analyze data for improved outcomes.

¹ Public Law 112-34 for child welfare programs (SSA Title IV-B); Public Law 112-96 for TANF programs (SSA Title IV-A); Section 304 of Public Law 113-183 for child support programs (SSA Title IV-D); and Public Law 115-123 to amend the prior TANF (IV-A) language and add language for foster care programs (SSA Title IV-E).

DATES: Written comments must be submitted to the office listed in the ADDRESSES section below on or before January 7, 2019.

ADDRESSES: Interested persons may submit written comments by any of the following methods:

• Email: DataRx@acf.hhs.gov. Please include “Comments on Data Exchange Standards Federal Register Notice” in the subject line of the message.

• Mail or Courier Delivery: c/o Chris Traver, Senior Advisor, Division of Data & Improvement, Office of Planning, Research, and Evaluation, Administration for Children and Families, 330 C Street SW, Washington, DC 20201.

Instructions: We urge you to submit comments electronically to ensure they are received in a timely manner. All comments received may be posted publicly including any personal information provided. Please be aware that mail via the U.S. Postal Service may take an additional 3 to 4 days to process. If you choose to use an express, overnight, or other special delivery method, please ensure first that they are able to deliver to the above address during the normal workweek.

FOR FURTHER INFORMATION CONTACT: Chris Traver, Senior Advisor, Division of Data & Improvement, Office of Planning, Research, and Evaluation, Administration for Children and Families, 330 C Street SW, Washington, DC 20201; (202) 401-4835.

SUPPLEMENTARY INFORMATION:

Background: Purpose of Data Exchange Standardization Requirement.

The purpose of the statutory requirements and corresponding regulation is to ensure that state human service programs are able to effectively share data, both at the state level and with the federal government. For instance, states find significant value in the ability to share or link case level data from one information system to another on the same individuals receiving benefits and/or services in order to support a holistic, wrap-around services approach for individuals and families. To achieve this in an efficient manner, each agency must agree to describe the shared data in a common way. As a simple example, if an agency records in its information system a client's birthdate as 12/11/10, it could be interpreted by another agency's information system as December 11, 2010, and by another agency as November 12, 2010, or something else entirely. Those agencies must also agree on the mechanisms for sharing the data, such as secure interfaces (including APIs) ² or file transfers. Therefore, it is critical to reach agreement beforehand regarding the definitions and structures of data that is shared across programs and systems. Under the required regulation, ACF would work with the states to develop and implement data exchange standards for certain categories of information that would improve the quality and consistency of human services data sharing implementation nationwide.

² Application Programming Interface— https://www.techopedia.com/definition/24407/application-programming-interface-api.

In human services, data sharing is increasingly relied upon to enable coordination across programs and information/system silos, especially for effective integrated case management and prevention of improper payments. For example, if a single mother of two children is receiving a TANF benefit but the two children are subsequently removed and placed into foster care, data sharing across information systems would allow the TANF agency to know that the children are no longer living in the household and the mother may no longer be eligible for the same level of benefit.

Data sharing also improves the quality of service delivery. For example, a child welfare caseworker might be able to retrieve a family's current address from child support data to locate the family for an in-person visit or locate the absent parent for possible placement of the children. Additionally, a data exchange between a child welfare agency with care and custody of a child and a child-placing agency with physical custody would ensure both agencies have the most current information on the child in care.

The importance of data sharing may be well understood. However, the preferred implementation method may vary by agency. The greater the degree of standardization, the easier it is to share data across organizations. While more effective and cost effective in the long run, this approach requires a standardized format, structure, and methods for sharing the data prior to implementation and may initially introduce additional considerations that influence time and cost. Therefore, the final regulation will seek the appropriate balance between the benefits of standardization and ease of implementation.

Regulation Development

The Office of Planning, Research, and Evaluation (OPRE) will lead the drafting of the regulation with subject matter expertise from the ACF Children's Bureau (CB), Office of Child Support Enforcement (OCSE), and Office of Family Assistance (OFA). Additionally, OPRE will consult with other agencies that may be impacted by the regulation through existing or future data exchange relationships, such as the Centers for Medicare and Medicaid Services (CMS) and the Health Resources and Services Administration (HRSA).

Definitions (for the Purposes of This Request for Comment)

Data Exchange should refer to any sharing of information, whether through transfer of data, expanded access to data, or any other mechanism that increases the utilization of information. Data exchange could include sharing for the purposes of case management, program administration, data reporting, analytics, etc. It is generally thought to refer to exchange of data across program, organizational, or jurisdictional boundaries, but this is not strictly necessary to be considered an exchange of information. In this context, data exchange typically refers to the electronic exchange of data via automated data systems, rather than through more traditional, often paper-based, means.

Standards should refer to any documented, consistent, and repeatable method for exchanging data, either through technical or non-technical means. There are technical standards for the electronic exchange of data (such as through tools including the National Information Exchange Model (NIEM),³ and there are also standards of practice in the context of business process. These are often codified in policies, interagency agreements, memoranda of understanding, service-level agreements, etc.

³ https://www.niem.gov/communities/human-services.

What We Are Looking for in Public Comments

ACF is committed to providing state agencies with flexibility to implement standards for economical, efficient, and effective information systems that support policy and practice. Therefore, we are soliciting comments from interested parties on setting standards for data exchanges that affect the SSA Title IV programs for child welfare and foster care (title IV-B and IV-E), child support (title IV-D), and Temporary Assistance for Needy Families (TANF, title IV-A). But we are also interested in receiving input affecting additional programs. Please comment on any aspects of the planned Data Exchange Standards Regulation that you wish.

We are particularly interested in obtaining responses to the following questions:

1. The ability to share data is often impacted by state or federal law, policies, or other governing frameworks. Are there individual programs or agencies that are particularly impacted by their existence or absence? What are the key enablers and/or barriers to automated data exchange in your program or agency?

2. To what degree, if any, are data exchange efforts negatively impacted by a lack of standardization? In other words, where would greater consistency of data (definitions, format, and structure) help improve existing or planned data exchanges?

3. Have you considered adopting a standards-based approach to data exchange? If so, were any existing standards frameworks (such as the National Information Exchange Model) considered, and what influenced the decision for or against? What are some of the benefits (planned or achieved) of adopting a standards-based approach?

4. What factors should be considered before committing to a standards-based approach to data exchange? This might include timing (procurement, fiscal year, or legislative cycles), cost, availability of required expertise, needed regulatory change, impacts on current practices, etc.

5. If a more standards-based approach to data exchange were adopted, what kinds of technical assistance or training would you anticipate needing, if any?

ACF appreciates any and all comments on the above questions, or related recommendations. Comments will be considered carefully and used to inform the development of a planned Notice of Proposed Rulemaking, which is anticipated to be published in the spring of 2019.

Dated: October 25, 2018.
Lynn A. Johnson,
Assistant Secretary for Children and Families.

[FR Doc. 2018-24459 Filed 11-7-18; 8:45 am]

BILLING CODE 4184-79-P